DEPARTMENT OF VETERANS AFFAIRS

Advisory Committee on Cemeteries and Memorials; Notice of Meeting

The Department of Veterans Affairs (VA) gives notice under the Federal Advisory Committee Act, 5 U.S.C. ch. 10, that the Affairs Advisory Committee on Cemeteries and Memorials will be held June 14-15, 2023. The Committee will meet in two separate locations as shown in the chart below. The meeting sessions will begin and end as follows:

Date(s) | Time(s) | Location(s)
June 14, 2023 | 8:30 a.m. to 3:00 p.m. Eastern Standard Time (EST) | Department of Veterans Affairs, 810 Vermont Ave. NW, Room 230, Washington, DC 20424.
June 15, 2023 | 8:30 a.m. to 2:15 p.m. EST | Quantico National Cemetery, Operations Building, 1824 Joplin Rd., Triangle, VA 22172.

The meeting sessions are open to the public.

The purpose of the Committee is to advise the Secretary of Veterans Affairs on the administration of national cemeteries, soldiers' lots and plots, the selection of new national cemetery sites, the erection of appropriate memorials, and the adequacy of Federal burial benefits. The Committee makes recommendations to the Secretary regarding such activities.

On Wednesday, June 14, 2023, the agenda will include remarks by National Cemetery Administration (NCA) leadership a panel on Unclaimed Veterans' Remains, and a briefing from the Veterans Experience Office; there will also be an opportunity for public comment and open discussion.

On Thursday, June 15, 2023, the agenda will include remarks and a recap from the Committee Chair; briefings on the Pre-Need/Eligibility Program and Quantico National Cemetery, as well as Subcommittee updates, public comments; and open discussion. In the afternoon, the Committee will tour Quantico National Cemetery. Transportation will not be provided for public guests.

Any member of the public wishing to attend the meeting or seeking additional information should contact Ms. Faith Hopkins, Designated Federal Officer, at 202-603-4499. Please leave a voice message no later than close of business, June 5, 2023. The Committee will also accept written comments. Comments may be transmitted electronically to the Committee at Faith.Hopkins@va.gov. In the public's communications with the Committee, the writers must identify themselves and state the organizations, associations, or persons they represent. Because the meeting is being held in a Government building, a photo I.D. must be presented as part of the clearance process. Due to an increase in security protocols and to prevent delays in clearance processing, allow an additional 30 minutes before the meeting begins.

Additionally, if you are interested in attending the meeting virtually, the dial-in number for both days is 1-404-397-1596, Access Code: 27621076518#.

Dated: May 9, 2023.
Jelessa M. Burney,
Federal Advisory Committee Management Officer.

[FR Doc. 2023-10206 Filed 5-11-23; 8:45 am]

BILLING CODE P